SECURITIES AND EXCHANGE COMMISSION

[SEC File No. 270-563, OMB Control No. 3235-0626]

Submission for OMB Review; Comment Request

Upon Written Request Copies Available From: Securities and Exchange Commission, Office of FOIA Services, 100 F Street NE, Washington, DC 20549-2736

Extension:

Rule 17g-3—Annual financial and other reports to be filed or furnished by nationally recognized statistical rating organizations.

Notice is hereby given that, pursuant to the Paperwork Reduction Act of 1995 (44 U.S.C. 3501 et seq.) (“PRA”), the Securities and Exchange Commission (“Commission”) is soliciting comments on the collection of information summarized below. The Commission plans to submit an extension for this current collection of information to the Office of Management and Budget for approval.

Rule 17g-3 (17 CFR 240.17g-3) under the Securities Exchange Act of 1934 (15 U.S.C. 78a et seq.) contains certain reporting requirements for nationally recognized statistical rating organizations (“NRSROs”). Specifically, NRSROs are required to file with the Commission, on an annual basis, financial reports containing specified financial statements, certain financial condition reports, and a report on the internal control structure. NRSROs are also required to furnish a report of the number of credit rating actions taken during the most recently completed fiscal year.

Currently, there are 10 credit rating agencies registered as NRSROs with the Commission. Based on staff experience, the Commission estimates that the total burden for NRSROs to comply with Rule 17g-3 is 3,650 hours. In addition, the Commission estimates an industry-wide annual external cost to NRSROs of $350,000 to comply with Rule 17g-3, reflecting costs to engage the services of independent public accountants and outside counsel.

The public may view background documentation for this information collection at the following website: www.reginfo.gov. Find this particular information collection by selecting “Currently under 30-day Review—Open for Public Comments” or by using the search function. Written comments and recommendations for the proposed information collection should be sent within 30 days of publication of this notice by May 17, 2024 to (i) MBX.OMB.OIRA.SEC_desk_officer@omb.eop.gov and (ii) David Bottom, Director/Chief Information Officer, Securities and Exchange Commission, c/o John Pezzullo, 100 F Street NE, Washington, DC 20549, or by sending an email to: PRA_Mailbox@sec.gov.

Dated: April 11, 2024.
Vanessa A. Countryman,
Secretary.

[FR Doc. 2024-08096 Filed 4-16-24; 8:45 am]

BILLING CODE 8011-01-P